DEPARTMENT OF ENERGY

Energy Information Administration

Agency Information Collection Extension

AGENCY: U.S. Energy Information Administration (EIA), Department of Energy (DOE).

ACTION: Notice and request for comments.

SUMMARY: EIA is requesting a three-year extension without changes of Form EIA-914 Monthly Crude Oil and Lease Condensate, and Natural Gas Production Report. The survey collects monthly data on production and sales of natural gas, and crude oil and lease condensate. The data provides useful information on the nation's production and sales of crude oil and natural gas.

DATES: EIA must receive all comments on this proposed information collection no later than February 24, 2020. If you anticipate any difficulties in submitting your comments by the deadline, contact the person listed in the ADDRESSES section of this notice as soon as possible.

ADDRESSES: Submit comments electronically to jessica.biercevicz@eia.gov or mail comments to Jessica Biercevicz, U.S. Energy Information Administration, 1000 Independence Avenue SW, EI-24, Washington DC, 20585.

FOR FURTHER INFORMATION CONTACT: If you need additional information, contact Jessica Biercevicz, U.S. Energy Information Administration, telephone (202) 586-4299, or by email at jessica.biercevicz@eia.gov. The form and instructions are available on EIA's website at: https://www.eia.gov/survey/.

SUPPLEMENTARY INFORMATION: This information collection request contains:

(1) OMB No.: 1905-0205;

(2) Information Collection Request Title: Monthly Crude Oil and Lease Condensate, and Natural Gas Production Report;

(3) Type of Request: Renewal;

(4) Purpose: Form EIA-914 Monthly Crude Oil and Lease Condensate, and Natural Gas Production Report collects monthly data on natural gas production, and crude oil and lease condensate production, and crude oil and lease condensate sales by API gravity category in 22 state/areas (Alabama, Arkansas, California (including State Offshore), Colorado, Federal Offshore Gulf of Mexico, Federal Offshore Pacific, Kansas, Louisiana (including State Offshore), Michigan, Mississippi (including State Offshore), Montana, New Mexico, North Dakota, Ohio, Oklahoma, Pennsylvania, Texas (including State Offshore), Utah, Virginia, West Virginia, Wyoming, and Other States (defined as all remaining states, except Alaska)). The data appear in the Monthly Crude Oil and Lease Condensate, and Natural Gas Production Report on EIA's website and in the EIA publications; Monthly Energy Review, Petroleum Supply Annual volumes, Petroleum Supply Monthly, Natural Gas Annual, and Natural Gas Monthly.

(5) Annual Estimated Number of Respondents: 500.

(6) Annual Estimated Number of Total Responses: 6,000.

(7) Annual Estimated Number of Burden Hours: 24,000.

(8) Annual Estimated Reporting and Recordkeeping Cost Burden: $1,884,480 (24,000 burden hours times $78.52). EIA estimates that respondents will have no additional costs associated with the surveys other than the burden hours and that the information is maintained during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on December 17, 2019.
Nanda Srinivasan,
Director, Office of Statistical Methods and Research, U.S. Energy Information Administration.

[FR Doc. 2019-27741 Filed 12-23-19; 8:45 am]

BILLING CODE 6450-01-P